DEPARTMENT OF COMMERCE

International Trade Administration

[A-570-890]

Wooden Bedroom Furniture from the People's Republic of China: Final Results of Fourth New Shipper Reviews

AGENCY: Import Administration, International Trade Administration, Department of Commerce.

EFFECTIVE DATE: October 31, 2008.

SUMMARY: On June 6, 2008, the Department of Commerce (the “Department”) published the preliminary results of these new shipper reviews (“NSRs”) covering the period January 1, 2007 through July 31, 2007.¹ See Wooden Bedroom Furniture from the People's Republic of China: Preliminary Results of January 1, 2007 July 31, 2007 Semi-Annual New Shipper Reviews; 73 FR 32292 (June 6, 2008) (“Preliminary Results”). Based on our analysis of the comments received, we have made certain changes to our calculations. The final dumping margins for these reviews are listed in the “Final Results of the Reviews” section below.

¹ In the initiation notice of the NSRs the Department explained that it was expanding the period of review (“POR”), pursuant to 19 CFR 351.214 (f)(2)(ii), because the sale of the subject merchandise occurred within the POR, but the entry occurred after the normal POR. See Wooden Bedroom Furniture From the People's Republic of China: Initiation of New Shipper Reviews, 72 FR 52083 (September 12, 2007). As a result, the POR for these NSRs is January 1 through July 31, 2007.

FOR FURTHER INFORMATION CONTACT: Paul Stolz, AD/CVD Operations, Office 8, Import Administration, International Trade Administration, U.S. Department of Commerce, 14th Street and Constitution Avenue, NW, Washington, DC 20230; telephone: (202) 482-4474.

SUPPLEMENTARY INFORMATION:

Background

Since the Preliminary Results, the following events have occurred. On June 17, 2008, Donguan Mu Si Furniture Co., Ltd. (“Mu Si”) submitted documents to the Department claiming that due to a computational error it had misreported the consumption factor for medium density fiberboard (“MDF”) used to produce cherry veneer nightstands.

On July 7, 2008, we extended the time limit for the completion of the final results of these NSRs until no later than October 24, 2008. See Wooden Bedroom Furniture from the People's Republic of China: Notice of Extension of Time Limit for Final Results of New Shipper Reviews; 73 FR 50933 (August 29, 2008).

On July 7, 2008, we received case briefs from Mu Si and the American Furniture Manufacturers Committee for Legal Trade and Vaughan-Bassett Furniture Company Inc. (collectively “Petitioners”). On July 17, 2008, we received a timely rebuttal brief from Donguan Bon Ten Furniture Co., Ltd. (“Bon Ten”) and Mu Si.

Analysis of Comments Received

All issues raised in the case briefs and rebuttal briefs by parties to these reviews are addressed in the “Issues and Decision Memorandum for the Final Results of Antidumping Duty Administrative Review and New Shipper Reviews of Wooden Bedroom Furniture from the People's Republic of China,” dated October 24, 2008, which is hereby adopted by this notice (“Issues and Decision Memo”). A list of the issues discussed in the Issues and Decision Memo is attached to this notice as an appendix. The Issues and Decision Memo is a public document and is on file in the Central Records Unit (“CRU”), Main Commerce Building, Room 1117, and is accessible on the Web at http://ia.ita.doc.gov/frn. The paper copy and electronic version of the memorandum are identical in content.

Scope of the Order

The product covered by the order is wooden bedroom furniture. Wooden bedroom furniture is generally, but not exclusively, designed, manufactured, and offered for sale in coordinated groups, or bedrooms, in which all of the individual pieces are of approximately the same style and approximately the same material and/or finish. The subject merchandise is made substantially of wood products, including both solid wood and also engineered wood products made from wood particles, fibers, or other wooden materials such as plywood, oriented strand board, particle board, and fiberboard, with or without wood veneers, wood overlays, or laminates, with or without non-wood components or trim such as metal, marble, leather, glass, plastic, or other resins, and whether or not assembled, completed, or finished.

The subject merchandise includes the following items: (1) wooden beds such as loft beds, bunk beds, and other beds; (2) wooden headboards for beds (whether stand-alone or attached to side rails), wooden footboards for beds, wooden side rails for beds, and wooden canopies for beds; (3) night tables, night stands, dressers, commodes, bureaus, mule chests, gentlemen's chests, bachelor's chests, lingerie chests, wardrobes, vanities, chessers, chifforobes, and wardrobe-type cabinets; (4) dressers with framed glass mirrors that are attached to, incorporated in, sit on, or hang over the dresser; (5) chests-on-chests,² highboys,³ lowboys,⁴ chests of drawers,⁵ chests,⁶ door chests,⁷ chiffoniers,⁸ hutches,⁹ and armoires;¹⁰ (6) desks, computer stands, filing cabinets, book cases, or writing tables that are attached to or incorporated in the subject merchandise; and (7) other bedroom furniture consistent with the above list.

² A chest-on-chest is typically a tall chest-of-drawers in two or more sections (or appearing to be in two or more sections), with one or two sections mounted (or appearing to be mounted) on a slightly larger chest; also known as a tallboy.

³ A highboy is typically a tall chest of drawers usually composed of a base and a top section with drawers, and supported on four legs or a small chest (often 15 inches or more in height).

⁴ A lowboy is typically a short chest of drawers, not more than four feet high, normally set on short legs.

⁵ A chest of drawers is typically a case containing drawers for storing clothing.

⁶ A chest is typically a case piece taller than it is wide featuring a series of drawers and with or without one or more doors for storing clothing. The piece can either include drawers or be designed as a large box incorporating a lid.

⁷ A door chest is typically a chest with hinged doors to store clothing, whether or not containing drawers. The piece may also include shelves for televisions and other entertainment electronics.

⁸ A chiffonier is typically a tall and narrow chest of drawers normally used for storing undergarments and lingerie, often with mirror(s) attached.

⁹ A hutch is typically an open case of furniture with shelves that typically sits on another piece of furniture and provides storage for clothes.

¹⁰ An armoire is typically a tall cabinet or wardrobe (typically 50 inches or taller), with doors, and with one or more drawers (either exterior below or above the doors or interior behind the doors), shelves, and/or garment rods or other apparatus for storing clothes. Bedroom armoires may also be used to hold television receivers and/or other audio-visual entertainment systems.

The scope of the order excludes the following items: (1) seats, chairs, benches, couches, sofas, sofa beds, stools, and other seating furniture; (2) mattresses, mattress supports (including box springs), infant cribs, water beds, and futon frames; (3) office furniture, such as desks, stand-up desks, computer cabinets, filing cabinets, credenzas, and bookcases; (4) dining room or kitchen furniture such as dining tables, chairs, servers, sideboards, buffets, corner cabinets, china cabinets, and china hutches; (5) other non-bedroom furniture, such as television cabinets, cocktail tables, end tables, occasional tables, wall systems, book cases, and entertainment systems; (6) bedroom furniture made primarily of wicker, cane, osier, bamboo or rattan; (7) side rails for beds made of metal if sold separately from the headboard and footboard; (8) bedroom furniture in which bentwood parts predominate;¹¹ (9) jewelry armoires;¹² (10) cheval mirrors;¹³ (11) certain metal parts;¹⁴ (12) mirrors that do not attach to, incorporate in, sit on, or hang over a dresser if they are not designed and marketed to be sold in conjunction with a dresser as part of a dresser-mirror set; and (13) upholstered beds.¹⁵

¹¹ As used herein, bentwood means solid wood made pliable. Bentwood is wood that is brought to a curved shape by bending it while made pliable with moist heat or other agency and then set by cooling or drying. See Customs' Headquarters' Ruling Letter 043859, dated May 17, 1976.

¹² Any armoire, cabinet or other accent item for the purpose of storing jewelry, not to exceed 24″ in width, 18″ in depth, and 49″ in height, including a minimum of 5 lined drawers lined with felt or felt-like material, at least one side door (whether or not the door is lined with felt or felt-like material), with necklace hangers, and a flip-top lid with inset mirror. See Issues and Decision Memorandum from Laurel LaCivita to Laurie Parkhill, Office Director, Concerning Jewelry Armoires and Cheval Mirrors in the Antidumping Duty Investigation of Wooden Bedroom Furniture from the People's Republic of China, dated August 31, 2004 and Notice of Amended Preliminary Determination of Sales at Less Than Fair Value and Amendment to the Scope: Wooden Bedroom Furniture from the People's Republic of China, 69 FR 54643 (September 9, 2004). See also Wooden Bedroom Furniture from the People's Republic of China: Notice of Final Results of Changed Circumstances Review and Revocation in Part, 71 FR 38621 (July 7, 2006).

¹³ Cheval mirrors are any framed, tiltable mirror with a height in excess of 50″ that is mounted on a floor-standing, hinged base. Additionally, the scope of the order excludes combination cheval mirror/jewelry cabinets. The excluded merchandise is an integrated piece consisting of a cheval mirror, i.e., a framed tiltable mirror with a height in excess of 50 inches, mounted on a floor-standing, hinged base, the cheval mirror serving as a door to a cabinet back that is integral to the structure of the mirror and which constitutes a jewelry cabinet lined with fabric, having necklace and bracelet hooks, mountings for rings and shelves, with or without a working lock and key to secure the contents of the jewelry cabinet back to the cheval mirror, and no drawers anywhere on the integrated piece. The fully assembled piece must be at least 50 inches in height, 14.5 inches in width, and 3 inches in depth. See Wooden Bedroom Furniture From the People's Republic of China: Final Results of Changed Circumstances Review and Determination To Revoke Order in Part, 72 FR 948 (January 9, 2007).

¹⁴ Metal furniture parts and unfinished furniture parts made of wood products (as defined above) that are not otherwise specifically named in this scope (i.e., wooden headboards for beds, wooden footboards for beds, wooden side rails for beds, and wooden canopies for beds) and that do not possess the essential character of wooden bedroom furniture in an unassembled, incomplete, or unfinished form. Such parts are usually classified under the Harmonized Tariff Schedule of the United States (“HTSUS”) subheading 9403.90.7000.

¹⁵ Upholstered beds that are completely upholstered, i.e., containing filling material and completely covered in sewn genuine leather, synthetic leather, or natural or synthetic decorative fabric. To be excluded, the entire bed (headboards, footboards, and side rails) must be upholstered except for bed feet, which may be of wood, metal, or any other material and which are no more than nine inches in height from the floor. See Wooden Bedroom Furniture from the People's Republic of China: Final Results of Changed Circumstances Review and Determination to Revoke Order in Part, 72 FR 7013 (February 14, 2007).

Imports of subject merchandise are classified under subheading 9403.50.9040 of the HTSUS as “wooden . . . beds” and under subheading 9403.50.9080 of the HTSUS as “other . . . wooden furniture of a kind used in the bedroom.” In addition, wooden headboards for beds, wooden footboards for beds, wooden side rails for beds, and wooden canopies for beds may also be entered under subheading 9403.50.9040 of the HTSUS as “parts of wood” and framed glass mirrors may also be entered under subheading 7009.92.5000 of the HTSUS as “glass mirrors . . . framed.” This order covers all wooden bedroom furniture meeting the above description, regardless of tariff classification. Although the HTSUS subheadings are provided for convenience and customs purposes, our written description of the scope of this proceeding is dispositive.

Changes Since the Preliminary Results

Based on our analysis of information on the record of these NSRs, and comments received from the interested parties, we have made the following changes to the margin calculations for Bon Ten and Mu Si.

• We employed facts available in order to calculate Mu Si's per-unit consumption of MDF used to produce cherry veneer nightstands. See the “Facts Available” section of this notice, below.

• We corrected average unit value calculations for certain factors of production (“FOPs”). See the Issues and Decision Memo at Comment 2 and the memorandum to the file “New Shipper Review of Wooden Bedroom Furniture from the People's Republic of China: Surrogate Values for the Final Results” (“FOP memorandum”) dated October 24, 2008.

• We corrected the calculation of domestic movement expenses. See the Issues and Decision Memo at Comment 3 and the FOP memorandum.

• We corrected the conversion of weight measurements for certain FOPs. See the Issues and Decision Memo at Comment 4 and the FOP memorandum.

• We recalculated the surrogate financial ratios using the financial statements of four Indian producers of comparable merchandise. See the Issues and Decision Memo at Comment 5 and the FOP memorandum.

Facts Available

Sections 776(a)(1) and (2) of the Tariff Act of 1930 as amended (“the Act”) provide that the Department shall apply “facts otherwise available” if necessary information is not on the record or an interested party or any other person (A) withholds information that has been requested, (B) fails to provide information within the deadlines established, or in the form and manner requested by the Department, subject to subsections (c)(1) and (e) of section 782, (C) significantly impedes a proceeding, or (D) provides information that cannot be verified as provided by section 782(i) of the Act.

Where the Department determines that a response to a request for information does not comply with the request, section 782(d) of the Act provides that the Department will so inform the party submitting the response and will, to the extent practicable, provide that party the opportunity to remedy or explain the deficiency. If the party fails to remedy the deficiency within the applicable time limits and subject to section 782(e) of the Act, the Department may disregard all or part of the original and subsequent responses, as appropriate. Section 782(e) of the Act provides that the Department “shall not decline to consider information that is submitted by an interested party and is necessary to the determination but does not meet all applicable requirements established by the administering authority” if the information is timely, can be verified, is not so incomplete that it cannot be used, and if the interested party acted to the best of its ability in providing the information. Where all of these conditions are met, the statute requires the Department to use the information if it can do so without undue difficulties.

Mu Si claimed that it misreported its consumption factor for MDF used to produce cherry veneer nightstands. Mu Si explained this error and proposed a correction in a submission it made to the Department on June 17, 2008, subsequent to publication of the preliminary results in the Federal Register, and again in its case brief. However, Mu Si's proposed correction of the MDF consumption factor is incomplete based on additional evidence on the record.

Given the late stage of the review when Mu Si claimed it misreported MDF consumption (i.e. after the preliminary results), the Department was unable to seek additional information from Mu Si to complete the record. Thus, the Department has incomplete information on the record and must rely on facts available to calculate the MDF consumption for control number 2, cherry veneer nightstands. See Section 776(a) of the Act. There is no evidence on the record of this segment of the proceeding that Mu Si failed to cooperate during these NSRs, thus the Department has not relied on adverse inferences under section 776(b) of the Act. As facts available, we employed Mu Si's original MDF consumption calculation as corrected for the alleged transposition error with respect to MDF, 12 mm thickness. Please see the Issues and Decision Memo at Comment 5 and the FOP memorandum for further discussion of this issue.

Surrogate Country

In the Preliminary Results, we stated that although we preliminarily selected the Philippines as the surrogate country in the on-going administrative review of the wooden bedroom furniture antidumping duty order, there is no information on the record of these NSRs which would enable us to consider the Philippines as a surrogate country. See Preliminary Results at 73 FR 32295. As a result, we selected India as the surrogate country. Id. Since the Preliminary Results, no additional information has been placed on the record of this segment of the proceeding and no interested party has commented on the selection of India as the surrogate country. Therefore, we continue to determine that India is the appropriate surrogate country for the final results of these NSRs.

Separate Rates

The Department found in the preliminary results that Bon Ten and Mu Si demonstrated a lack of de jure and de facto government control with respect to their export activities, and preliminarily determined they were eligible for separate rates. See Preliminary Results at 73 FR 32294-95. No information has been placed on the record of this segment of the proceeding since the preliminary results to contradict our preliminary separate-rates determination. Therefore, for the final results, the Department continues to determine that Bon Ten and Mu Si are eligible for separate rates.

Final Results of the New Shipper Reviews

The Department has determined that the following final dumping margins exist for the period January 1, 2007 through July 31, 2007:

Wooden Bedroom Furniture from the PRC
Exporter/Producer | Weighted-Average Margin (Percent)
Dongguan Bon Ten Furniture Co., Ltd. / Dongguan Bon Ten Furniture Co., Ltd. | 0.00
Dongguan Mu Si Furniture Co., Ltd. / Dongguan Mu Si Furniture Co., Ltd. | 33.01

Assessment

The Department will determine, and U.S. Customs and Border Protection (“CBP”) shall assess, antidumping duties on all appropriate entries. For customers/importers of the respondents that did not report entered value, we have calculated customer/importer-specific antidumping duty assessment amounts based on the ratio of the total amount of antidumping duties calculated for the examined sales of subject merchandise to the total quantity of subject merchandise sold in those transactions. For customers/importers of the respondents that reported entered value, we have calculated customer-specific antidumping duty assessment amounts based on customer/importer-specific ad valorem rates in accordance with 19 CFR 351.212(b)(1). The Department intends to issue assessment instructions to CBP 15 days after the date of publication of these final results of NSRs.

Cash Deposit Requirements

The following cash deposit requirements will be effective upon publication of these final results of NSRs for all shipments of the subject merchandise entered, or withdrawn from warehouse, for consumption on or after the publication date, as provided for by section 751(a)(2)(C) of the Act: 1) for the exporter/producer combinations listed above, the cash deposit rate will be the rates shown for those companies; 2) for previously investigated or reviewed PRC and non-PRC exporters not listed above that have separate rates, the cash deposit rate will continue to be the exporter-specific rate or combination rate published for the most recent period; 3) for all PRC exporters of subject merchandise which have not been found to be entitled to a separate rate, the cash deposit rate will be the PRC-wide rate of 216.01 percent; and 4) for all non-PRC exporters of subject merchandise which have not received their own rate, the cash deposit rate will be the rate applicable to the PRC exporters that supplied that non-PRC exporter. These deposit requirements shall remain in effect until further notice.

Notification of Interested Parties

This notice also serves as a final reminder to importers of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

This notice also serves as a reminder to parties subject to administrative protective orders (“APOs”) of their responsibility concerning the return or destruction of proprietary information disclosed under the APO in accordance with 19 CFR 351.305(a)(3), which continues to govern business proprietary information in this segment of the proceeding. Timely written notification of the return/destruction of APO materials or conversion to judicial protective order is hereby requested. Failure to comply with the regulations and terms of an APO is a violation which is subject to sanction.

Disclosure

We will disclose the calculations performed for these final results within five days of the date of publication of this notice to interested parties in accordance with 19 CFR 351.224(b).

We are issuing and publishing these final results and notice in accordance with sections 751(a)(2)(B), 751(a)(2)(C), and 777(i)(1) of the Act and 19 CFR 351.221(b)(5).

Dated: October 24, 2008.
Stephen J. Claeys,
Acting Assistant Secretary for Import Administration.

Appendix: Issues Covered in the Issues and Decision Memo

Issue 1: Whether the Department Should Correct a Computational Error Made by Dongguan Mu Si Furniture Co., Ltd. in its calculation of Medium Density Fiberboard Consumption.

Issue 2: Whether the Department Should Correct Average Unit Values (“AUVs”) for Certain Factors of Production (“FOP”).

Issue 3: Whether the Department Should Correct Domestic Movement Expenses.

Issue 4: Whether the Department Should Convert Units of Measure for Certain FOPs.

Issue 5: Whether the Department Should Continue to Use the Financial Statements of 13 Indian Companies to Calculate Surrogate Financial Ratios.

[FR Doc. E8-26036 Filed 10-30-08; 8:45 am]

BILLING CODE 3510-DS-S